DEPARTMENT OF ENERGY

Federal Energy Regulatory Commission

[Project No. 2386-004, Project No. 2387-003, and Project No. 2388-004]

City of Holyoke Gas & Electric Department; Notice Soliciting Scoping Comments

Take notice that the following hydroelectric applications have been filed with the Commission and are available for public inspection.

a. Type of Applications: Subsequent Licenses.

b. Project Nos.: 2386-004, 2387-003, and 2388-004.

c. Date filed: August 31, 2016.

d. Applicant: City of Holyoke Gas & Electric Department.

e. Names of Projects: Holyoke Number 1 Hydro Project, P-2386-004; Holyoke Number 2 Hydro Project, P-2387-003; and Holyoke Number 3 Hydro Project, P-2388-004.

f. Locations: Holyoke Number 1 (P-2386-004) and Holyoke Number 2 (P-2387-003) are located between the first and second level canals, and Holyoke Number 3 (P-2388-004) is located between the second and third level canals on the Holyoke Canal System (Canal System), adjacent to the Connecticut River, in the city of Holyoke in Hampden County, Massachusetts. The projects do not occupy federal land.

g. Filed Pursuant to: Federal Power Act 16 U.S.C. 791 (a)-825(r).

h. Applicant Contact: Paul Ducheney, Superintendent, City of Holyoke Gas and Electric Department, 99 Suffolk Street, Holyoke, MA 01040, (413) 536-9340 or ducheney@hged.com.

i. FERC Contact: Kyle Olcott, (202) 502-8963 or kyle.olcott@ferc.gov.

j. Deadline for filing scoping comments: November 9, 2017.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-2386-004, P-2387-003, and/or P-2388-004.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. These applications are not ready for environmental analysis at this time.

l. The City 1 project consists of: (1) An intake at the wall of the First Level Canal fed by the Canal System with two 14.7-foot-tall by 24.6-foot-wide trashrack screens with 3.5-inch clear spacing; (2) two parallel 10-foot-diameter, 36.5-foot-long penstocks; (3) a 50-foot-long by 38-foot-wide brick powerhouse with two 240-kilowatt and two 288-kilowatt turbine generator units; (4) two parallel 20-foot-wide, 328.5-foot-long brick arched tailrace conduits discharging into the Second Level Canal; and, (5) appurtenant facilities. There is no transmission line associated with the project as it is located adjacent to the substation of interconnection.

The City 2 project consists of: (1) An intake at the wall of the First Level Canal fed by the Canal System with three trashrack screens (one 16.2-foot-tall by 26.2-foot-wide and two 14.8-foot-tall by 21.8-foot-long) with 3-inch clear spacing; (2) two 9-foot-diameter, 240-foot-long penstocks; (3) a 17-foot-high by 10-foot-diameter surge tank; (4) a 60-foot-long by 40-foot-wide by 50-foot high powerhouse with one 800-kilowatt vertical turbine generator unit; (5) two parallel 9-foot-wide, 10-foot-high, 120-foot-long brick arched tailrace conduits discharging into the Second Level Canal; (6) an 800-foot-long, 4.8-kilovolt transmission line; and (7) appurtenant facilities.

The City 3 project consists of: (1) A 52.3-foot-long by 14-foot-high intake trashrack covering an opening in the Second Level Canal fed by the Canal System; (2) two 11-foot-high by 11-foot-wide headgates; (3) two 85-foot-long, 93-square-foot in cross section low pressure brick penstocks; (4) a 42-foot-long by 34-foot-wide by 28-foot-high reinforced concrete powerhouse with one 450-kilowatt turbine generator unit; (5) a 29.7-foot-wide, 10-foot-deep, 118-foot-long open tailrace discharging into the Third Level Canal; and, (6) 4.8-kilovolt generator leads that connect directly to the 4.8-kilovolt area distribution system; and (7) appurtenant facilities.

m. A copy of the application is available for review at the Commission in the Public Reference Room or may be viewed on the Commission's Web site at http://www.ferc.gov using the eLibrary link. Enter the docket number excluding the last three digits in the docket number field to address the document. For assistance, contact FERC Online Support. A copy is available for inspection and reproduction at the address in Item H above.

n. You may also register online at http://www.ferc.gov/docs-filing/esubscription.asp to be notified via email of new filings and issuances related to this or other pending projects. For assistance, contact FERC Online Support.

o. Scoping Process

The Commission staff intends to prepare a single Environmental Assessment (EA) for the Holyoke Number 1 Hydro Project, Holyoke Number 2 Hydro Project, and Holyoke Number 3 Hydro Project in accordance with the National Environmental Policy Act. The EA will consider both site-specific and cumulative environmental impacts and reasonable alternatives to the proposed action.

Commission staff does not propose to conduct any on-site scoping meetings at this time. Instead, we are soliciting comments, recommendations, and information on the Scoping Document (SD) issued on October 10, 2017.

Copies of the SD outlining the subject areas to be addressed in the EA were distributed to the parties on the Commission's mailing list and the applicant's distribution list. Copies of the SD may be viewed on the web at http://www.ferc.gov using the “eLibrary” link. Enter the docket number excluding the last three digits in the docket number field to access the document. For assistance, call 1-866-208-3676 or for TTY, (202) 502-8659.

Dated: October 10, 2017.
Kimberly D. Bose,
Secretary.

[FR Doc. 2017-22414 Filed 10-16-17; 8:45 am]

BILLING CODE 6717-01-P